DEPARTMENT OF COMMERCE

National Oceanic and Atmospheric Administration

Agency Information Collection Activities; Submission to the Office of Management and Budget (OMB) for Review and Approval; Comment Request; Generic Clearance for Marine Recreational Information Program: Design & Field Test Studies

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on April 10, 2024 during a 60-day comment period. This notice allows for an additional 30 days for public comments.

Agency: National Oceanic and Atmospheric Administration, Commerce

Title: Generic Clearance for Marine Recreational Information Program: Design & Field Test Studies

OMB Control Number: 0648-XXXX.

Form Number(s): None.

Type of Request: Regular submission [new information collection].

Number of Respondents: 46,000.

Average Hours Per Response: Surveys five minutes, Cognitive interviews one hour, focus groups one hour, and panel designs fifteen minutes.

Total Annual Burden Hours: 4,375.

Needs and Uses: This request is to initiate a new information collection using a generic clearance to allow the Marine Recreational Information Program to develop, test, and improve its surveys and methodologies. Marine recreational anglers are surveyed to collect catch and effort data, fish biology data, and angler socioeconomic characteristics. This request is part of an on-going initiative to improve MRIP surveys as mandated by the Magnuson-Stevens Fishery Conservation and Management Act (16 U.S.C. 1852) and the Modernizing Recreational Fisheries Management Act of 2018 (16 U.S.C. 1881) and recommended by the National Academies of Science, Engineering and Medicine. Marine recreational fishing catch and effort data are collected through a combination of mail surveys, telephone surveys and on-site intercept surveys with recreational anglers. The procedures utilized to this effect will include but are not limited to experiments with levels of incentives for various types of survey operations, focus groups, cognitive laboratory activities, pilot testing, exploratory interviews, experiments with questionnaire design, and usability testing of electronic data collection instruments.

Affected Public: Individuals or households.

Frequency: On Occasion.

Respondent's Obligation: Voluntary.

Legal Authority: Magnuson-Stevens Fishery Conservation and Management Act (16 U.S.C. 1852) and the Modernizing Recreational Fisheries Management Act of 2018 (16 U.S.C. 1881).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Under Secretary for Economic Affairs, Commerce Department.

[FR Doc. 2024-14024 Filed 6-25-24; 8:45 am]

BILLING CODE 3510-22-P